DEPARTMENT OF TRANSPORTATION

Federal Motor Carrier Safety Adminstration

49 CFR Part 390

[Docket No. FMCSA-2005-23315]

RIN 2126-AA86

Requirements for Intermodal Equipment Providers and Motor Carriers and Drivers Operating Intermodal Equipment

Correction

In proposed rule document E6-21380 beginning on page 76796 in the issue of Thursday, December 21, 2006 make the following corrections:

§ 390.46 [Corrected]

1. On page 76829, in § 390.46, in the first column, in the second full paragraph, in the first line, “(i) Nonpreemption determinations” should read “(2) Nonpreemption determinations”.

2. On the same page, in the same section, in the same paragraph, in the second line, “(A) In general” should read “(i) In general”.

[FR Doc. Z6-21380 Filed 1-5-07; 8:45 am]

BILLING CODE 1505-01-D